DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Comprehensive Community Mental Health Services for Children and Their Families Program: Phase Three—(OMB No. 0930-0209, revision)—SAMHSA's Center for Mental Health Services is conducting Phase III of the national evaluation of the Comprehensive Community Mental Health Services for Children and Their Families Program. Phase III collects data on child mental health outcomes, family life, and service system development and performance. Data are being collected on 23 service systems (22 funded systems of care and one comparison site), and approximately 5,339 children and families. Data collection for this evaluation will be conducted over a five year period.

The core of service system data are currently collected every 18 months throughout the 5-year evaluation period, with a provider survey conducted in selected years. Service delivery and system variables of interest include the following: maturity of system of care development, adherence to the system of care program model, and client service experience. The length of time that individual families will participate in the study ranges from 18 to 36 months depending on when they enter the evaluation.

Child and family outcomes of interest will be collected at intake and during subsequent follow-up sessions at six-month intervals. The outcome measures include the following: child symptomatology and functioning, family functioning, material resources, and caregiver strain. In addition, a treatment effectiveness study will examine the relative impact of an evidence-based treatment within one system of care.

The average annual respondent burden is estimated below. The estimate reflects the average number of respondents in each respondent category, the average number of responses per respondent per year, the average length time it will take for each response, and the total average annual burden for each category of respondent, and for all categories of respondents combined.

This revision to the currently approved information collection activities involves: (1) Extension of the data collection period for an additional 18 months to cover an additional sixth year of grant funding in the 22 currently funded systems of care (and a six-month no-cost extension for the evaluation), (2) the addition of a family-driven study to assess the extent of family involvement in service planning, (3) the addition of a sustainability study to assess the capacity of funded communities to continue system of care service provision after the termination of grant funding, and (4) the addition of a wraparound fidelity study to assess the implementation of wraparound services delivery in the context of a system of care. Although, the data collection period is being extended for an additional 18 months, the total average annual burden is reduced because the total number of responses for each individual remains the same.

Respondent (currently approved) | Number of respondents: With revisions | Number of respondents: Currently approved | Number of responses/respondent: With revisions | Number of responses/respondent: Currently approved | Average burden/ response: With revisions | Average burden/ response: Currently approved | Total average annual burden: With revisions | Total average annual burden: Currently approved
Caregiver | 5339 | 5339 | 1.38561 | 1.00054 | 2.06632 | 2.09489 | 15,286 | 11,191
Youth | 3203 | 3203 | 1.48281 | 1.06771 | 0.91511 | 0.92960 | 4,347 | 3,179
Provider | 483 | 483 | 0.77370 | 0.49044 | 1.10432 | 1.38961 | 413 | 329
Total |  |  |  |  |  |  | 20,046 | 14,699

Send comments to Nancy Pearce, SAMHSA Reports Clearance Officer, Room 16-105, Parklawn Building, 5600 Fishers Lane, Rockville, MD 20857. Written comments should be received within 60 days of this notice.

Dated: August 21, 2002.
Richard Kopanda,
Executive Officer, SAMHSA.

[FR Doc. 02-21727 Filed 8-26-02; 8:45 am]

BILLING CODE 4162-20-P